DEPARTMENT OF AGRICULTURE

Food and Nutrition Service

Agency Information Collection Activities: Special Supplemental Nutrition Program for Women, Infants, and Children (WIC) Program Regulations—Reporting and Record-Keeping Burden

AGENCY: Food and Nutrition Service (FNS), USDA.

ACTION: Notice.

SUMMARY: In accordance with the Paperwork Reduction Act of 1995, this notice invites the general public and other public agencies to comment on this proposed information collection. This collection is a revision of a currently approved information collection in the Special Supplemental Nutrition Program for Women, Infants, and Children (WIC) for the reporting and record-keeping burdens associated with the WIC Program regulations.

DATES: Written comments must be received on or before June 12, 2023.

ADDRESSES: All responses to this notice will be summarized and included in the request for Office of Management and Budget approval. All comments will be a matter of public record.

The Food and Nutrition Service, USDA, invites interested persons to submit written comment.

• Preferred Method: Federal eRulemaking Portal. Go to http://www.regulations.gov, and follow the online instructions for submitting comments electronically.

• Mail: Send comments to Allison Post, Food and Nutrition Service, U.S. Department of Agriculture, 1320 Braddock Place, Room 328, Alexandria, VA 22314.

• Email: Send email to allison.post@usda.gov.

All responses to this notice will be summarized and included in the request for Office of Management and Budget (OMB) approval. All comments will be a matter of public record.

FOR FURTHER INFORMATION CONTACT: Requests for additional information or copies of this information collection should be directed to Allison Post at 703-457-7708.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Special Supplemental Nutrition Program for Women, Infants, and Children (WIC) Program Regulations—Reporting and Record-Keeping Burden.

Form Number: N/A.

OMB Number: 0584-0043.

Expiration Date: December 31, 2023.

Type of Request: Revision of a currently approved collection.

Abstract: The purpose of the Special Supplemental Nutrition Program for Women, Infants, and Children (WIC) is to provide supplemental foods, nutrition education, and health care referrals to low income, nutritionally at-risk pregnant, breastfeeding and postpartum women, infants, and children up to age five. Currently, WIC operates through State health departments in 50 States, 33 Indian Tribal Organizations, American Samoa, District of Columbia, Guam, Commonwealth of the Northern Mariana Islands, Puerto Rico, and the Virgin Islands. The Federal regulations governing the WIC Program (7 CFR part 246) require that certain program-related information be collected and that full and complete records concerning WIC operations are maintained. The information reporting and record-keeping burdens are necessary to ensure appropriate and efficient management of the WIC program.

The reporting and record-keeping burdens covered by this information collection include requirements that involve the certification of WIC participants; the nutrition education that is provided to participants; the processing of sanctions, complaints, and appeals; the household requirement to pick up food instruments and CVVs outside of scheduled recertification and nutrition education clinic visits; the authorization, training and monitoring of vendors; and the collection of vendor pricing information in order to comply with the Federal regulations regarding WIC cost containment. State Plans are the principal source of information about how each State agency operates its WIC Program. Information collected from participants and local agencies is collected through State-developed forms or Management Information Systems. The information collected is used by the Department of Agriculture to manage, plan, evaluate, make decisions, and report on WIC program operations. This information collection is requesting a revision in the burden hours due to program changes and adjustments that primarily reflect the inclusion of programmatic requirements that are being included in this ICR for the first time and expected changes in the number of WIC participants; WIC authorized vendors; and WIC State and local agencies. The revisions increased the approved reporting burden by 11,381,356 hours; decreased the total approved record-keeping burden by 244,302 hours; and increase the total approved public disclosure burden by 15 hours.

Reporting Burden

Affected Public: Individual/Households; Business or Other for Profit and Non-Profit; and State, Local and Tribal Government. Respondent groups include WIC participants (women, infants, and children), WIC retail vendors, nonprofit businesses operating as local agencies, and WIC State and local agencies (including Indian Tribal Organizations and those in U.S. territories).

Estimated Number of Respondents: The total estimated number of respondents is 6,283,276. This includes: 1,899 State and local agencies; 6,243,960 WIC participants; and 37,417 Retail Vendors.

Estimated Number of Responses per Respondent: The estimated number of responses per respondent is 6.79.

Estimated Total Annual Responses: The estimated total for annual responses is 42,694,557.

Estimated Time per Response: The average estimated time per response for all participants is 0.36 hours. The estimated time of response varies from 1 minute to 1,968 hours, depending on the activity and the respondent group, as shown in the table below.

Estimated Total Annual Reporting Burden Hours: The estimated total annual reporting burden hours is 15,398,488. See the table below for the estimated total annual burden for each type of respondent.

Current OMB Inventory: 4,017,132.

Difference (Burden Revisions Requested): 11,381,356.

Record-Keeping Burden

Affected Public: State, Local, and Tribal Government; and Business or Other for Profit and Non-Profit. The respondent groups include the WIC State and local agencies (including Indian Tribal Organizations and those in U.S. territories), WIC retail vendors, and nonprofit businesses operating as local agencies.

Estimated Number of Record-keepers: The estimated number of record-keepers is 39,316. This includes: 1,899 State and local agencies and 37,417 Retail Vendors.

Estimated Number of Records per Respondent: The estimated number of records is 320.22.

Total Estimated Annual Records: The total estimated number of annual records is 12,589,883.

Estimated Annual Hours per Record-keeper: The average estimated annual hours per record-keeper is 0.02. The estimated time of response varies from 1 minute to 50 hours, depending on the activity, as shown in the table below.

Estimated Total Record-keeping Burden Hours: The estimated total record-keeping burden hours is 285,664. See the table below for the estimated total annual burden.

Current OMB Inventory: 529,967.

Difference (Burden Revisions Requested): −244,302.

Public Disclosure Burden

Affected Public: State, Local, and Tribal Government. The respondent groups include the WIC State agencies (including Indian Tribal Organizations and those in U.S. territories).

Estimated Number of Respondents: The estimated number of record-keepers is 29.

Estimated Number of Responses per Respondent: The estimated number of records is 1.

Total Estimated Annual Responses: The total estimated number of annual records is 29.

Estimated Annual Hours per Response: The average estimated annual hours per record-keeper is 1.

Estimated Total Public Disclosure Burden Hours: The estimated total record-keeping burden hours is 15. See the table below for the estimated total annual burden.

Current OMB Inventory: 0.

Difference (Burden Revisions Requested): 15.

Estimated Grand Total for Reporting, Record-keeping, and Public Disclosure Burden: The estimated grand total for reporting, record-keeping, and public disclosure is 15,684,167.

WIC Burden Table
Regulatory section | Information collected | Estimated number of respondents | Annual responses per respondent | Total annual responses | Number of burden hours per request | Estimated total burden hours | Previous submission: total hours per person | Difference due to program changes | Difference due to adjustments
REPORTING BURDEN ESTIMATES
Affected Public: State and Local Agencies (including Indian Tribal Organizations and U.S. Territories)
246.4 | State Plan | 89.00 | 1.00 | 89.00 | 134.62 | 11,981.18 | 11,981.18 | 0.00 | 0.00
246.5(b) | Local Agency (LA) applications | 905.00 | 1.00 | 905.00 | 2.00 | 1,810.00 | 1,808.00 | 0.00 | 2.00
246.5(c)(2) | SA notification re not funding LA | 4.00 | 1.00 | 4.00 | 0.17 | 0.67 | 0.00 | 0.67 | 0.00
246.5(e)(3)(ii) | SA notification of LA disqualification | 4.00 | 0.41 | 1.63 | 0.50 | 0.81 | 0.00 | 0.81 | 0.00
246.6 | LA Agreements | 905.00 | 1.00 | 905.00 | 1.50 | 1,357.50 | 1,356.00 | 0.00 | 1.50
246.7(d) | Provision of income eligibility determinations | 89.00 | 20.34 | 1,810.00 | 0.25 | 452.50 | 0.00 | 452.50 | 0.00
246.7(f)(2)(iii)(A) | LA requests for notice extension | 301.67 | 1.00 | 301.67 | 0.25 | 75.42 | 75.33 | 0.00 | 0.09
246.7(b),(i),(n) | Cert. data for women | 1,267.00 | 761.95 | 965,388.20 | 0.42 | 403,049.57 | 545,711.00 | 0.00 | −142,661.43
246.7(i) | Cert. data for children | 1,267.00 | 1,878.50 | 2,380,063.00 | 0.42 | 993,676.30 | 882,728.00 | 0.00 | 110,948.30
246.7(i) | Certification data for infants | 1,267.00 | 809.25 | 1,025,320.80 | 0.42 | 428,071.43 | 285,970.97 | 0.00 | 142,100.47
246.7(j)(9) | SA notification re funding shortfall | 4.00 | 1.00 | 4.00 | 0.08 | 0.33 | 0.33 | 0.00 | 0.00
246.7(k) | Verification of Certification cards | 1,267.00 | 103.49 | 131,123.16 | 0.08 | 10,948.78 | 17,210.00 | 0.00 | −6,261.22
246.8 | Provision of Non-English Materials | 79.00 | 1.00 | 79.00 | 3.00 | 237.00 | 0.00 | 237.00 | 0.00
246.9(c) | Informing WIC participants of the details of the appeal process and their individual rights | 89.00 | 1,403.14 | 124,879.20 | 0.08 | 10,427.41 | 0.00 | 10,427.41 | 0.00
246.9(h) | Fair hearing procedures for participants | 89.00 | 28.06 | 2,497.58 | 3.00 | 7,492.75 | 0.00 | 7,492.75 | 0.00
246.10(b)(1) | Identification of acceptable foods | 89.00 | 1.00 | 89.00 | 40.00 | 3,560.00 | 3,560.00 | 0.00 | 0.00
246.10(b)(2) | Submit APL as food list | 54.00 | 4.00 | 216.00 | 0.01 | 1.79 | 1.79 | 0.00 | 0.00
246.10(d)(1) | Medical documentation, 1% of infants | 1,267.00 | 8.09 | 10,253.21 | 0.03 | 342.46 | 572.00 | 0.00 | −229.54
246.10(i) | Plans for Substitutions | 0.20 | 1.00 | 0.20 | 2.00 | 0.40 |  | 0.40 | 0.40
246.11(d)(1), 246.7(b) | LA nutrition education provision | 1,267.00 | 3,449.70 | 4,370,772.00 | 0.25 | 1,092,693.00 | 0.00 | 1,092,693.00 | 0.00
246.11(d)(2) | LA nutrition education plan | 1,267.00 | 1.00 | 1,267.00 | 40.00 | 50,680.00 | 72,320.00 | 0.00 | −21,640.00
246.12(f)(3) | Vendor identification | 89.00 | 1.00 | 89.00 | 3.00 | 267.00 | 0.00 | 267.00 | 0.00
246.12(f)(4) | Split tender transactions | 89.00 | 1.00 | 89.00 | 3.00 | 267.00 | 0.00 | 267.00 | 0.00
246.12(g)(4)(i) | Vendor food sales data | 89.00 | 9.44 | 840.00 | 4.00 | 3,360.00 | 14,764.00 | −11,404.00 | −11,404.00
246.12(g)(4)(ii)(B) | Vendor shelf prices | 79.00 | 947.27 | 74,834.00 | 2.00 | 149,668.00 | 164,656.00 | 0.00 | −14,988.00
246.12(g)(4)(ii)(B) | Vendor shelf prices exemption | 5.00 | 1.00 | 5.00 | 8.00 | 40.00 | 40.00 | 0.00 | 0.00
246.12(g)(4)(iii) | Price Increases | 89.00 | 1.00 | 89.00 | 3.00 | 267.00 | 0.00 | 267.00 | 0.00
246.12(g)(5) | Vendor initial preauthorization visits | 89.00 | 17.00 | 1,513.00 | 1.00 | 1,513.00 | 0.00 | 1,513.00 | 0.00
246.12(g)(8) | Application periods | 89.00 | 1.00 | 89.00 | 3.00 | 267.00 | 0.00 | 267.00 | 0.00
246.12(h) | Review Vendor applications/agreements | 89.00 | 138.74 | 12,347.61 | 0.68 | 8,371.68 | 0.00 | 8,371.68 | 0.00
246.12(i)(1) | Vendor training development | 89.00 | 1.00 | 89.00 | 8.00 | 712.00 | 712.00 | 0.00 | 0.00
246.12(i)(1) | Vendor training | 89.00 | 420.42 | 37,417.00 | 2.00 | 74,834.00 | 82,328.00 | 0.00 | −7,494.00
246.12(j)(2),(6) | Routine vendor monitoring | 89.00 | 21.02 | 1,870.85 | 1.33 | 2,495.71 | 0.00 | 2,495.71 | 0.00
246.12(j)(4),(6) | Vendor compliance investigations | 89.00 | 21.02 | 1,870.85 | 2.33 | 4,366.56 | 4,116.40 | 0.00 | 250.16
246.12(k)(5) | FI and CVV redeemed after the specified period | 2.00 | 1.00 | 2.00 | 3.00 | 6.00 | 0.00 | 6.00 | 0.00
246.12(l)(3) | Notification of vendor violations | 89.00 | 8.41 | 748.34 | 0.05 | 37.42 | 0.00 | 37.42 | 0.00
246.12(m) | Home food delivery systems | 1.00 | 12.00 | 12.00 | 40.00 | 480.00 | 0.00 | 480.00 | 0.00
246.12(o) | Complaints | 89.00 | 112.36 | 10,000.00 | 1.00 | 10,000.00 | 10,000.00 | 0.00 | 0.00
246.12(p) | Food instrument and cash-value voucher security | 89.00 | 1.00 | 89.00 | 2.00 | 178.00 | 0.00 | 178.00 | 0.00
246.12(q) | Disposition of food instruments | 89.00 | 1.00 | 89.00 | 40.00 | 3,560.00 | 3,560.00 | 0.00 | 0.00
246.12(u) | Participant Sanctions | 89.00 | 1,403.14 | 124,879.20 | 0.08 | 10,427.41 | 0.00 | 10,427.41 | 0.00
246.12(v) | Farmers Market applications/agreements | 89.00 | 11.09 | 986.70 | 0.68 | 668.98 | 0.00 | 668.98 | 0.00
246.12(v)(6) | Farmers Market Disqualifications | 89.00 | 0.74 | 65.78 | 0.08 | 5.49 | 0.00 | 5.49 | 0.00
246.12(bb) | EBT Technical standards and requirements | 89.00 | 1.00 | 89.00 | 3.00 | 267.00 | 0.00 | 267.00 | 0.00
246.14(d) | ADP proposals | 20.00 | 1.00 | 20.00 | 160.00 | 3,200.00 | 3,200.00 | 0.00 | 0.00
246.16(b)(3)(i)&(ii) | Food backspend and NSA spendforward authority | 27.00 | 1.00 | 27.00 | 2.00 | 54.00 | 0.00 | 54.00 | 0.00
246.16(d) | Distribution of funds to LAs | 89.00 | 81.35 | 7,240.00 | 2.00 | 14,480.00 | 14,464.00 | 0.00 | 16.00
246.16(e)(2)(i) & (ii) | Food expenditure requirement waiver; NSA expenditure requirement good cause justification | 30.00 | 1.00 | 30.00 | 1.50 | 45.00 | 0.00 | 45.00 | 0.00
246.16a | Infant Formula Cost Containment Procedures | 15.80 | 1.00 | 15.80 | 1,968.00 | 31,094.40 | 0.00 | 31,094.40 | 0.00
246.16a(f) | Postponement Request | 2.00 | 1.00 | 2.00 | 8.00 | 16.00 | 0.00 | 16.00 | 0.00
246.16a(g)(1)-(4) | Cost containment Procedures for other supplemental foods | 2.00 | 1.00 | 2.00 | 480.00 | 960.00 | 0.00 | 960.00 | 0.00
246.17(c)(1) | Termination of SAs & LAs | 89.00 | 0.11 | 10.00 | 8.00 | 80.00 | 80.00 | 0.00 | 0.00
246.18 | Administrative Review of State agency actions | 89.00 | 9.15 | 814.12 | 2.00 | 1,628.24 | 0.00 | 1,628.24 | 0.00
246.19 | Observations | 17.00 | 1.00 | 17.00 | 3.00 | 51.00 | 0.00 | 51.00 | 0.00
246.19(a)(2) | SA corrective action plans to FNS | 29.37 | 1.00 | 29.37 | 30.00 | 881.10 | 881.10 | 0.00 | 0.00
246.19(b)(3) | LA Monitoring | 89.00 | 10.17 | 905.00 | 2.00 | 1,810.00 | 0.00 | 1,810.00 | 0.00
246.19(b)(5) | Targeted LA reviews | 89.00 | 2.54 | 226.25 | 2.00 | 452.50 | 452.00 | 0.00 | 0.50
246.20(a)(2) | SA response to OIG audits | 1.00 | 1.00 | 1.00 | 40.00 | 40.00 | 40.00 | 0.00 | 0.00
246.20(b) | SA Annual Audits | 89.00 | 1.00 | 89.00 | 8.00 | 712.00 | 0.00 | 712.00 | 0.00
246.22(b)(2) | Administrative appeal | 1.00 | 1.00 | 1.00 | 2.00 | 2.00 | 0.00 | 2.00 | 0.00
246.23(a)(3) | Claims against State agencies | 1.00 | 1.00 | 1.00 | 2.00 | 2.00 | 0.00 | 2.00 | 0.00
246.26(h)(3) | Written agreements with public organization | 22.25 | 1.00 | 22.25 | 0.25 | 5.56 | 0.00 | 5.56 | 0.00
Subtotal Reporting: State and Local Agencies | 1,356 | 6,854 | 9,293,526 | 0.36 | 3,344,432 | 2,122,588 | −266,639.55 | −1,379,798
Affected Public: Individuals and Households: Applicants for Program Benefits
246.7(i) | Cert. data for women | 1,379,126 | 1.00 | 1,379,126.00 | 0.42 | 575,785.11 | 545,710.58 | 0.00 | 30,074.53
246.7(i) | Cert. data for children | 3,400,090 | 1.00 | 3,400,090.00 | 0.42 | 1,419,537.58 | 882,727.68 | 0.00 | 536,809.89
246.7(i) | Certification data for infants | 1,464,744 | 1.00 | 1,464,744.00 | 0.42 | 611,530.62 | 285,970.97 | 0.00 | 325,559.65
246.7 | Travel time for certification appointments | 6,243,960.00 | 1.00 | 6,243,960.00 | 0.33 | 2,085,482.64 | 0.00 | 2,085,482.64 | 0.00
246.7(o) | Certification appointments | 6,243,960.00 | 1.00 | 6,243,960.00 | 0.33 | 2,085,482.64 | 0.00 | 2,085,482.64 | 0.00
246.9 | Participant Appeals | 2,497.58 | 1.00 | 2,497.58 | 2.00 | 4,995.17 | 0.00 | 4,995.17 | 0.00
246.10(d)(1) | Medical documentation, 1% of infants | 14,647.44 | 1.00 | 14,647.44 | 0.03 | 489.22 | 572.00 | 0.00 | −82.78
246.10(d)(1) | Medical documentation | 62,439.60 | 2.00 | 124,879.20 | 0.05 | 6,256.45 | 12,051.91 | 0.00 | −5,795.46
246.11(e) | Nutrition Education | 6,243,960.00 | 1.00 | 6,243,960.00 | 0.25 | 1,560,990.00 | 0.00 | 1,560,990.00 | 0.00
246.12(r)(4) | Offline EBT State agencies: Food instrument and cash-value voucher pick up (non-certification clinic visits) | 596,333.16 | 3.00 | 1,788,999.49 | 0.50 | 894,499.74 | 0.00 | 894,499.74 | 0.00
246.12(r)(4) | Online EBT State agencies: Food instrument and cash-value voucher pick up (non-certification clinic visits) | 2,525,646.74 | 1.00 | 2,525,646.74 | 0.50 | 1,262,823.37 | 0.00 | 1,262,823.37 | 0.00
Subtotal Reporting: Applicants | 6,243,960 | 4.71 | 29,432,510 | 0.36 | 10,507,873 | 1,727,033 | 7,894,273.56 | 886,566
Affected Public: Business: Retail Vendors (WIC-Authorized Food Stores) and Nonprofit Businesses
246.5(b) | Nonprofit Applications | 271.5 | 1 | 271.5 | 2 | 543 | 0 | 543 | 0
246.7(i) | Cert. data for women | 543 | 761.95 | 413,737.8 | 0.42 | 172,735.5315 | 0 | 172,735.5315 | 0
246.7(i) | Cert. data for children | 543 | 1,878.50 | 1,020,027 | 0.42 | 425,861.2725 | 0 | 425,861.2725 | 0
246.7(i) | Certification data for infants | 543 | 809.25 | 439,423.2 | 0.42 | 183,459.186 | 0 | 183,459.186 | 0
246.7(k) | Verification of Certification cards | 543.00 | 103.49 | 56,195.64 | 0.08 | 4,692.34 | 0.00 | 0.00 | 4,692.34
246.10(d)(1) | Medical documentation, 1% of infants | 543.00 | 8.09 | 4,394.23 | 0.03 | 146.77 | 0.00 | 0.00 | 146.77
246.11(d)(1), 246.7(b) | LA nutrition education provision | 543.00 | 3,449.70 | 1,873,188.00 | 0.25 | 468,297.00 | 0.00 | 468,297.00 | 0.00
246.11(d)(2) | LA nutrition education plan | 543.00 | 1.00 | 543.00 | 40.00 | 21,720.00 | 0.00 | 0.00 | 21,720.00
246.12(g)(4)(i) | Vendor food sales data for A50s | 840.00 | 1.00 | 840 | 2.00 | 1680 | 7,382.00 | −5702 | −5702
246.12(g)(4)(ii)(B) | Vendor shelf prices | 33,212.84 | 2.00 | 66425.69 | 2.00 | 132,851.37 | 146,155.33 | 0 | −13,303.95506
246.12(g)(5) | Vendor initial preauthorization visits | 1,513.00 | 1.00 | 1,513 | 1.00 | 1,513 | 0.00 | 1,513 | 0
246.12(h) | Vendor applications & Agreements | 12,347.61 | 1.00 | 12,347.61 | 1.00 | 12,347.61 | 13,584.12 | 0 | −1,236.51
246.12(h)(3)(viii) | Vendor training of staff | 37,417 | 1.00 | 37,417 | 1.00 | 37,417 | 0.00 | 0 | 37,417
246.12(h)(8)(i) | Vendor incentive items | 389.20 | 1.00 | 389.2 | 1.00 | 389.2 | 389.20 | 0 | 0
246.12(i) | Vendor Training | 37,417 | 1.00 | 37,417 | 2.00 | 74,834 | 0.00 | 0 | 74,834
246.12(v) | Farmer/Market applications & agreements | 1,085.37 | 1.00 | 1,085.37 | 1.00 | 1,085.37 | 0.00 | 1,085.37 | 0
246.12(v)(1)(v) | Farmer/Market Training | 3,289.00 | 1.00 | 3,289 | 2.00 | 6,578 | 0.00 | 6,578 | 0
246.18(a)(1),(3) | Vendor Appeals | 14.97 | 1.00 | 14.9668 | 2.00 | 29.9336 | 0.00 | 29.9336 | 0
246.18(a)(4) | Farmers Market Appeals | 1.32 | 1.00 | 1.3156 | 2.00 | 2.6312 | 0.00 | 2.6312 | 0
Subtotal Reporting: Businesses | 37,960 | 104.54 | 3,968,521 | 0.39 | 1,546,183 | 167,511 | 1,254,402.92 | 118,568
GRAND SUBTOTAL: REPORTING | 6,283,276 | 6.79 | 42,694,557 | 0.36 | 15,398,488 | 4,017,132 | 8,882,037 | 2,499,319
RECORDKEEPING BURDEN ESTIMATES
Affected Public: State and Local Agencies (including Indian Tribal Organizations and U.S. Territories)
246.4(d) | State Plan Record Maintenance | 89 | 1 | 89 | 0.167 | 14.863 | 0 | 14.863 | 0
246.10(d)(1) | Medical documentation | 1,267.00 | 11.05 | 14,000 | 0.02 | 233.8 | 334.00 | 0 | −100.2
246.12(g)(10) | Vendor infant formula suppliers | 89.00 | 1.00 | 89 | 50.00 | 4,450 | 4,450.00 | 0 | 0
246.12(h)(1)(i) | Vendor applications & agreements | 89.00 | 138.74 | 12,347.61 | 1.00 | 12,347.61 | 13,584.12 | 0 | −1236.51
246.12(h)(8)(i) | Vendor incentive items | 389.20 | 1.00 | 389.2 | 1.00 | 389.2 | 389.20 | 0 | 0
246.12(i)(4) | Vendor training content | 89.00 | 1.00 | 89 | 2.00 | 178 | 178.00 | 0 | 0
246.12(j)(6) | Routine vendor monitoring | 89.00 | 21.02 | 1,870.85 | 0.50 | 935.425 | 1,029.10 | 0 | −93.675
246.12(j)(6)(ii) | Vendor compliance Investigations | 89.00 | 21.02 | 1,870.85 | 2.00 | 3,741.7 | 4,116.40 | 0 | −374.7
246.12(l)(3) | Vendor notice of violations | 89.00 | 11.78 | 1048 | 1.00 | 1048 | 514.00 | 0 | 534
246.12(m)(2)(iii) | Home food delivery systems | 1.00 | 1.00 | 1 | 0.20 | 0.2004 | 0.00 | 0.2004 | 0
246.19(a),(b),(c) | LA Monitoring | 89.00 | 20.34 | 1810 | 0.50 | 905 | 0.00 | 905 | 0
246.20(b) | SA Annual Audit | 89.00 | 1.00 | 89 | 0.17 | 14.863 | 0.00 | 14.863 | 0
246.23(c)(1) | Disposition of participant claims | 89.00 | 1.00 | 89 | 5.00 | 445 | 445.00 | 0 | 0
246.25(a) | Financial ops. & food delivery sys. | 1,356.00 | 12.00 | 16,272 | 2.00 | 32,544.00 | 45,528.00 | 0 | −12,984
246.25(a) | Nutrition education for women, infants, and children | 1,267.00 | 6,899.40 | 8,741,544 | 0.02 | 145,983.78 | 458,924.55 | 0 | −312,940.77
246.25(a) | Fair hearings | 1,356.00 | 1.00 | 1356 | 0.25 | 339 | 474.25 | 0 | −135.25
246.26(h)(3) | Written agreements with public organization | 76.00 | 1.00 | 76 | 0.17 | 12.692 | 0.00 | 12.692 | 0
Subtotal Recordkeeping: State and Local Agencies | 1,356 | 6,484.54 | 8,793,031 | 0.02 | 203,583 | 529,967 | 947.62 | −327,331
Affected Public: Business: Retail Vendors (WIC-Authorized Food Stores) and Nonprofit Businesses
246.10(d)(1) | Medical documentation | 543.00 | 11.05 | 6,000 | 0.02 | 100.2 | 0.00 | 100.2 | 0
246.12(h)(3)(xvi) | Vendor Inventory Records | 37,417.00 | 1.00 | 37,417 | 0.17 | 6,248.639 | 0.00 | 6,248.639 | 0
246.25(a) | Financial ops. & food delivery sys. | 543.00 | 12.00 | 6,516 | 2.00 | 13,032.00 | 0.00 | 13,032.00 | 0
246.25(a) | Nutrition education for women, infants, and children | 543.00 | 6,899.40 | 3,746,376 | 0.02 | 62,564.48 | 0.00 | 62,564.48 | 0
246.25(a) | Fair hearings | 543.00 | 1.00 | 543 | 0.25 | 135.75 | 0.00 | 135.75 | 0
Subtotal Recordkeeping: Businesses | 37,960 | 100.02 | 3,796,852 | 0.02 | 82,081 | 0 | 82,081.07 | 0
GRAND SUBTOTAL: RECORDKEEPING | 39,316 | 320.22 | 12,589,883 | 0.02 | 285,664 | 529,967 | 83,028.69 | −327,331
PUBLIC DISCLOSURE BURDEN ESTIMATES
Affected Public: State and Local Agencies (including Indian Tribal Organizations and U.S. Territories)
246.5(d)(2) | SA Public Notice for new LA | 29.37 | 1.00 | 29.37 | 0.50 | 14.69 | 0.00 | 14.69 | 0.00
Subtotal Public Disclosure: State and Local Agencies | 29 | 1.00 | 29 | 0.50 | 15 | 0 | 14.69 | 0
GRAND SUBTOTAL: PUBLIC DISCLOSURE | 29 | 1.00 | 29 | 0.50 | 15 | 0 | 14.69 | 0
GRAND TOTAL: REPORTING, RECORDKEEPING, and PUBLIC DISCLOSURE | 6,283,276 | 8.80 | 55,284,469 | 0.28 | 15,684,167 | 4,547,099 | 8,965,080 | 2,171,988

| Estimated number of respondents | Responses per respondent | Total annual responses (col. B×C) | Estimated avg. number of hours per response | Estimated total hours (col. D×E)
Total Reporting Burden | 6,283,276 | 6.79 | 42,694,557 | 0.36 | 15,398,488
Total Recordkeeping Burden | 39,316 | 320.22 | 12,589,883 | 0.02 | 285,664
Total Public Disclosure Burden | 29 | 1 | 29 | 0.50 | 15
TOTAL BURDEN FOR 0584-0043 | 6,283,276 | 8.80 | 55,284,469 | 0.28 | 15,684,167

Tameka Owens,
Assistant Administrator, Food and Nutrition Service.

[FR Doc. 2023-07686 Filed 4-11-23; 8:45 am]

BILLING CODE 3410-30-P